DEPARTMENT OF DEFENSE

Department of the Army

Notice of Availability for Exclusive, Non-Exclusive, or Partially-Exclusive Licensing of an Invention Concerning Tamper Evident Directed Inventory and Accountability Technology

AGENCY: Department of the Army, DoD.

ACTION: Notice.

SUMMARY: Announcement is made of the availability for licensing of the invention set forth in U.S. Patent Application Serial No. 13/814,600, entitled “Tamper Evident Directed Inventory and Accountability Technology,” filed on February 6, 2013. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to a plastic or glass vial or container with an embedded data storage mechanism, such as radio frequency identification tags (RFID) or similar integrated circuit technology, capable of receiving and storing data, as well as transmitting data when queried.

Brenda S. Bowen,
Army Federal Register Liaison Officer.

[FR Doc. 2014-01442 Filed 1-24-14; 8:45 am]

BILLING CODE 3710-08-P